DEPARTMENT OF HEALTH AND HUMAN SERVICES

Administration for Children and Families

Submission for OMB Review; Comment Request

Title: Title IV-E Foster Care Eligibility Review and Child and Family Service Reviews; Final Rule.

OMB No.: 0970-0214.

Description: The following five separate activities are associated with this information collection: Foster Care Eligibility Review (FCER) Program Improvement Plan; Child and Family Services Reviews (CFSR) State agency Statewide Assessment; CFSR On-site Review; CFSR Program Improvement Plan; and Anti-Discrimination Enforcement Corrective Action Plan. The collection of information for review of Federal payments to States for foster care maintenance payments (45 CFR 1356.71(i)) is authorized by title IV-E of the Social Security Act (the Act), section 474 [42 U.S.C. 674]. The Foster Care Eligibility Reviews (FCER) ensure that States claim title IV-E funds only on behalf of title IV-E eligible children. The collection of information for review of State child and family services programs (45 CFR 1355.33(b), 1355.33(c) and 1355.35(a)) is to determine whether such programs are in substantial conformity with State plan requirements under parts B and E of the Act and is authorized by section 1123(a) [42 U.S.C. 1320a-1a] of the Act. The CFSR looks at the outcomes related to safety, permanency and well-being of children served by the child welfare system and at seven systemic factors that support the outcomes. Section 474(d) of the Act [42 U.S.C. 674] deploys enforcement provisions (45 CFR 1355.38(b) and (c)) for the requirements at section 4371(a)(18) [42 U.S.C. 671], which prohibit the delay or denial of foster and adoptive placements based on the race, color, or national origin of any of the individuals involved. The enforcement provisions include the execution and completion of corrective action plans when a State is in violation of section 471(a)(18) of the Act. The information collection is needed: (1) To ensure compliance with title IV-E foster care eligibility requirements; (2) to monitor State plan requirements under titles IV-B and IV-E of the Act, as required by Federal statute; and (3) to enforce the title IV-E anti-discrimination requirements through State corrective action plans. The resultant information will allow ACF to determine if States are in compliance with State plan requirements and are achieving desired outcomes for children and families, help ensure that claims by States for title IV-E funds are made only on behalf of title IV-E eligible children, and require States to revise applicable statutes, rules, policies and procedures, and provide proper training to staff, through the development and implementation of corrective action plans. These reviews not only address compliance with eligibility requirements but also assist States in enhancing the capacities to serve children and families. In computing the number of burden hours for this information collection, ACF based the annual burden estimates on ACF's and States' experiences in conducting reviews and developing program improvement plans.

Respondents: State Title IV-B and Title IV-E Agencies.

Annual Burden Estimates
Instrument | Number of respondents | Number of responses per respondent | Average burden hours per response | Total burden hours
45 CFR 1356.7(i) Program Improvement Plan (FCER) | 7 | 1 | 90 | 630
45 CFR 1366.33(b) Statewide Assessment (CFSR).. | 13 | 1 | 240 | 3,120
45 CFR 1355.33(c) On-site Review (CFSR) | 13 | 1 | 1,170 | 15,210
45 CFR 1355.35(a) Program Improvement Plan (CFSR) | 13 | 1 | 240 | 3,120
45 CFR 1355.38(b) and (c) Corrective Action | 1 | 1 | 780 | 780

Estimated Total Annual Burden Hours: 22,860.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-7245, Attn: Desk Officer for the Administration for Children and Families.

Dated: September 4, 2009.
Robert Sargis,
Reports Clearance Officer.

[FR Doc. E9-21890 Filed 9-10-09; 8:45 am]

BILLING CODE 4184-01-P